Proclamation 10230 of June 18, 2021

Father's Day, 2021

By the President of the United States of America

A Proclamation

Like so many fathers, my dad was a man of decency, honor, generosity, and kindness. He had a profound impact on me, and instilled in me the understanding of the basic truth that everyone is entitled to be treated with dignity and respect. The value set my father taught me, I taught to my children and my grandchildren. I hold his words, his wisdom, and his influence in my heart every day and every time I sign my name as President, Joseph R. Biden, Jr.

Father's Day is a time to recognize, appreciate, and celebrate the fathers and father figures in our lives who lift us up on their shoulders and shape our lives for the better. We thank the dads who have guided, taught, coached, cared for us, and supported us through life's trials and tribulations. And, we celebrate all that they impart: character and perspective, lessons borne from experience, and the sacrifices made from love.

We also know this can be a hard day for many—for those who have lost a father, a grandfather, a stepfather, or a fatherly role model; and for those fathers who have lost a child of their own. During the past year, too many families lost fathers too soon because of and during this pandemic. We think of them today and every day, and we honor their enduring memories and legacies.

My Administration is committed to strengthening American families and easing the burdens of caregiving, so that more fathers and mothers can raise children while pursuing fulfilling lives and careers of their own. The American Families Plan would provide 12 weeks of paid family leave, so that all parents who work outside the home can spend precious time with their newborn children or care for their children and other loved ones when they get sick. By investing in our caregiving infrastructure, we can help ensure that no father or mother has to choose between putting food on the table or caring for their children. My Administration is also committed to helping single moms and dads, many of whom shoulder all of the parenting responsibility in their children's lives, sacrificing greatly to ensure that their kids have the same opportunities as everyone else.

Today, we express our appreciation for the fathers, stepfathers, grandfathers, and father figures who enrich our character, love us unconditionally, and give so much of themselves every day so we can live lives worthy of their dreams and sacrifices.

NOW, THEREFORE, I, JOSEPH R. BIDEN JR., President of the United States of America, in accordance with a joint resolution of the Congress approved April 24, 1972, as amended (36 U.S.C. 109), do hereby proclaim June 20, 2021, as Father's Day. I direct the appropriate officials of the Government to display the flag of the United States on all Government buildings on this day. Let us remember our fathers, living and deceased, and give them the honor and gratitude they deserve.

IN WITNESS WHEREOF, I have hereunto set my hand this eighteenth day of June, in the year of our Lord two thousand twenty-one, and of the Independence of the United States of America the two hundred and forty-fifth.

[FR Doc. 2021-13455

Filed 6-22-21; 8:45 am]

Billing code 3295-F1-P